COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and delete products and a service previously furnished by such agencies.

Comments Must Be Received On Or Before: 5/5/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

Scissor/Shear, Titanium Blade

NSN: 5110-00-NIB-0041—Straight handle, 8″

NSN: 5110-00-NIB-0042—Non-Stick, Straight handle, 8″

NSN: 5110-00-NIB-0043—Straight handle, 7″

NSN: 5110-00-NIB-0044—Bent handle, 8″

NSN: 5110-00-NIB-0067—Non-Stick, Bent handle, 8″

NPA: Winston-Salem Industries for the Blind, Inc., Winston-Salem, NC

Contracting Activity: GENERAL SERVICES ADMINISTRATION, TOOLS ACQUISITION DIVISION I, KANSAS CITY, MO

Coverage: A-List for the Total Government Requirement as aggregated by the General Services Administration.

Sorbent, Hazardous Material, Granular, Biobased

NSN: 4235-01-572-3902—4 LB

NSN: 4235-01-572-3892—20 LB

NSN: 4235-01-599-3952—40 LB

NPA: San Antonio Lighthouse for the Blind, San Antonio, TX

Contracting Activity: DEFENSE LOGISTICS AGENCY AVIATION, RICHMOND, VA

Coverage: B-List for the Broad Government Requirement as aggregated by the Defense Logistics Agency, Richmond, VA.

Deletions

The following products and service are proposed for deletion from the Procurement List:

Products

Portfolio, Report Cover, Clear Cover

NSN: 7510-01-411-7000—Dark Blue, 8½″ x 11″

NSN: 7510-01-566-4140—Light Blue, 8½″ x 11″

NSN: 7510-01-566-4141—Black, 8½″ x 11″

NSN: 7510-01-566-4142—Red, 8½″ x 11″

NSN: 7510-01-566-5060—Dark Green, 8½″ x 11″

NPA: Vision Corps, Lancaster, PA

Contracting Activity: GENERAL SERVICES ADMINISTRATION, NEW YORK, NY

Heavy Duty Aircraft Cleaner

NSN: 7930-01-381-5794

NPA: Beacon Lighthouse, Inc., Wichita Falls, TX

Contracting Activities:

U.S. POSTAL SERVICE, WASHINGTON, DC

DEPARTMENT OF VETERANS AFFAIRS, NAC, HINES, IL

GENERAL SERVICES ADMINISTRATION, FORT WORTH, TX

Folder, File

NSN: 7530-00-985-7010

NSN: 7530-00-205-3613

NPA: Goodwill Industries of the Pioneer Valley, Inc., Springfield, MA

Contracting Activity: GENERAL SERVICES ADMINISTRATION, NEW YORK, NY

Squeegee, Ergonomic Style Handle

NSN: 7920-01-503-5368

NSN: 7920-01-503-5369

NSN: 7920-01-503-5370

NSN: 7920-01-503-5371

NPA: Industries for the Blind, Inc., West Allis, WI

Contracting Activities:

DEPARTMENT OF VETERANS AFFAIRS, NAC, HINES, IL

GENERAL SERVICES ADMINISTRATION, FORT WORTH, TX

Service

Service Type/Location: Switchboard Operation Service, Veterans Affairs Medical Center: Highway 6 West, 1400 E. Touhy Avenue, Iowa City, IA.

NPA: UNKNOWN

Contracting Activity: DEPARTMENT OF VETERANS AFFAIRS, NAC, HINES, IL.

Barry S. Lineback,
Director, Business Operations.

[FR Doc. 2014-07545 Filed 4-3-14; 8:45 am]

BILLING CODE 6353-01-P